DEPARTMENT OF LABOR

Occupational Safety and Health Administration

[Docket No OSHA-2015-0014]

Maritime Advisory Committee for Occupational Safety and Health (MACOSH)

AGENCY: Occupational Safety and Health Administration (OSHA), Labor.

ACTION: Notice of MACOSH Membership.

SUMMARY: On April 29, 2015, the Secretary of Labor announced the renewal of the Maritime Advisory Committee for Occupational Safety and Health (MACOSH). The MACOSH charter was signed on April 30, 2015, and will expire after two years on April 30, 2017. On January 20, 2016, Secretary Perez selected 15 members and a Special Agency Liaison to serve on the Committee. The Committee is diverse and balanced, both in terms of segments of the maritime industry represented (e.g., shipyard employment, longshoring, marine terminal, and commercial fishing industries), and in the views and interests represented by the members.

FOR FURTHER INFORMATION CONTACT:

For press inquiries: Frank Meilinger, OSHA's Office of Communications, U.S. Department of Labor, Room N-3647, 200 Constitution Avenue NW., Washington, DC 20210; telephone: (202) 693-1725; email Meilinger.Francis2@dol.gov.

For general information about MACOSH: Ms. Amy Wangdahl, Director, Office of Maritime and Agriculture, OSHA, U.S. Department of Labor, Room N-3609, 200 Constitution Avenue NW., Washington, DC 20210; telephone: (202) 693-2066; email Wangdahl.amy@dol.gov.

SUPPLEMENTARY INFORMATION: MACOSH will contribute to OSHA's performance of its duties under the Occupational Safety and Health Act of 1970 (29 U.S.C. 651 et seq.). Authority to establish this Committee is at Sections 6(b)(1) and 7(b) of the OSH Act, Section 41 of the Longshore and Harbor Workers' Compensation Act (33 U.S.C. 941), Secretary of Labor's Order 1-2012 (77 FR 3912, Jan. 25, 2012), and 29 CFR part 1912. The Committee will advise OSHA on matters relevant to the safety and health of employees in the maritime industry. This includes advice on maritime issues that will result in more effective enforcement, training, and outreach programs, and streamlined regulatory efforts. The maritime industry includes shipyard employment, longshoring, marine terminal, and commercial fishing industries. The Committee will function solely as an advisory body in compliance with the provisions of the FACA and OSHA's regulations covering advisory committees (29 CFR part 1912).

Background

The maritime industry has historically experienced a high incidence of work-related fatalities, injuries, and illnesses. OSHA targeted this industry for special attention due to that experience. This targeting included development of guidance or outreach materials specific to the industry, rulemakings to update requirements, and other activities. MACOSH will advise the Secretary through the Assistant Secretary of Labor for Occupational Safety and Health on matters relevant to the safety and health of employees in the maritime industry. The Committee's advice will result in more effective enforcement, training and outreach programs, and streamlined regulatory efforts.

Appointment of Committee Members

OSHA received nominations of highly qualified individuals in response to the Agency's request for nominations (80 FR 31620, June 3, 2015). The Secretary selected to serve on the Committee individuals who have broad experience relevant to the issues to be examined by the Committee. The MACOSH members are:

Robert Fiore, International Longshoremen's Association;

Ed Ferris, International Longshore and Warehouse Union;

James A. Reid, International Association of Machinists and Aerospace Workers;

Matthew Layman, United States Coast Guard;

Miriam Bolaffi, United States Navy;

David Turner, Ceres Terminals, Incorporated;

Gunther Hoock, Signal Administration;

Larry Liberatore, American Society of Safety Engineers;

James Rone, Washington State Department of Labor and Industries;

Chelsea Woodward, U.S. Department of Health and Human Services;

National Institute of Occupational Safety and Health;

Robert Godinez, International Brotherhood of Boilermakers—Iron Ship Builders;

Donald V. Raffo, General Dynamics Corp.;

Solomon Egbe, Ports America Chesapeake;

Amy Sly Liu, Marine Chemist Association; and

James R. Thornton, American Industrial Hygiene Association.

The Special Agency Liaison to MACOSH is:

Leonard Howie, Director, Office of Workers' Compensation Programs.

Authority and Signature

David Michaels, Ph.D., MPH, Assistant Secretary of Labor for Occupational Safety and Health, U.S. Department of Labor, 200 Constitution Avenue NW., Washington, DC 20210, authorized the preparation of this notice pursuant to Sections 6(b)(1), and 7(b) of the Occupational Safety and Health Act of 1970 (29 U.S.C. 655(b)(1), 656(b)), the Federal Advisory Committee Act (5 U.S.C. App. 2), Section 41 of the Longshore and Harbor Workers' Compensation Act (33 U.S.C. 941), Secretary of Labor's Order 1-2012 (77 FR 3912, Jan. 25, 2012), and 29 CFR part 1912.

Signed at Washington, DC, on February 12, 2016.
David Michaels,
Assistant Secretary of Labor for Occupational Safety and Health.

[FR Doc. 2016-03377 Filed 2-17-16; 8:45 am]

BILLING CODE 4510-26-P